OFFICE OF PERSONNEL MANAGEMENT

January 2016 Pay Schedules

AGENCY: U.S. Office of Personnel Management (OPM).

ACTION: Notice.

SUMMARY: The President has signed an Executive order to implement the January 2016 pay adjustments for certain Federal civilian employees. The Executive order authorizes a 1-percent across-the-board increase for statutory pay systems and locality pay increases costing approximately 0.3 percent of basic payroll, reflecting an overall average pay increase of 1.3 percent. This is consistent with the President's alternative pay plan issued under 5 U.S.C. 5303(b) on August 28, 2015, and the President's alternative pay plan issued under 5 U.S.C. 5304a on November 30, 2015. This notice serves as documentation for the public record.

FOR FURTHER INFORMATION CONTACT: Lisa Dismond, Pay and Leave, Employee Services, U.S. Office of Personnel Management; (202) 606-2858 or pay-leave-policy@opm.gov.

SUPPLEMENTARY INFORMATION: On December 18, 2015, the President signed Executive Order 13715 (80 FR 80193), which implemented the January 2016 pay adjustments. The Executive order provides an overall average pay increase of 1.3 percent for the statutory pay systems.

The publication of this notice satisfies the requirement in section 5(b) of Executive Order 13715 that the U.S. Office of Personnel Management (OPM) publish appropriate notice of the 2016 locality payments in the Federal Register.

Schedule 1 of Executive Order 13715 provides the rates for the 2016 General Schedule (GS) and reflects a 1-percent increase from 2015. Executive Order 13715 also includes the percentage amounts of the 2016 locality payments. (See Section 5 and Schedule 9 of Executive Order 13715.)

GS employees receive locality payments under 5 U.S.C. 5304. Locality payments apply in the United States (as defined in 5 U.S.C. 5921(4)) and its territories and possessions. On October 27, 2015, OPM published a final rule in the Federal Register on behalf of the President's Pay Agent establishing 13 new locality pay areas and adding a number of counties to the definitions of current locality pay areas. The changes are applicable the first day of the first applicable pay period beginning on or after January 1, 2016 (January 10, 2016, based on the standard biweekly payroll cycle). The final rule can be found at http://www.gpo.gov/fdsys/pkg/FR-2015-10-27/pdf/2015-27380.pdf. In 2016, locality payments ranging from 14.35 percent to 35.75 percent apply to GS employees in the 47 locality pay areas. The 2016 locality pay area definitions can be found at: https://www.opm.gov/policy-data-oversight/pay-leave/salaries-wages/2016/locality-pay-area-definitions/.

The 2016 locality pay percentages became effective on the first day of the first pay period beginning on or after January 1, 2016 (January 10, 2016). An employee's locality rate of pay is computed by increasing his or her scheduled annual rate of pay (as defined in 5 CFR 531.602) by the applicable locality pay percentage. (See 5 CFR 531.604 and 531.609.)

Executive Order 13715 establishes the new Executive Schedule (EX), which incorporates a 1-percent increase required under 5 U.S.C. 5318 (rounded to the nearest $100). By law, Executive Schedule officials are not authorized to receive locality payments.

Executive Order 13715 establishes the 2016 range of rates of basic pay for members of the Senior Executive Service (SES) under 5 U.S.C. 5382. The minimum rate of basic pay for the SES is $123,175 in 2016. The maximum rate of the SES rate range is $185,100 (level II of the Executive Schedule) for SES members who are covered by a certified SES performance appraisal system and $170,400 (level III of the Executive Schedule) for SES members who are not covered by a certified SES performance appraisal system.

The minimum rate of basic pay for the senior-level (SL) and scientific and professional (ST) rate range was increased by 1 percent ($123,175 in 2016), which is the amount of the across-the-board GS increase. The applicable maximum rate of the SL/ST rate range is $185,100 (level II of the Executive Schedule) for SL or ST employees who are covered by a certified SL/ST performance appraisal system and $170,400 (level III of the Executive Schedule) for SL or ST employees who are not covered by a certified SL/ST performance appraisal system. Agencies with certified performance appraisal systems for SES members and employees in SL and ST positions also must apply a higher aggregate limitation on pay—up to the Vice President's salary ($237,700 in 2016.)

Note: Section 738 of title VII of Division E of the Consolidated Appropriations Act, 2016 (Pub. L. 114-113, December 18, 2015), contains a provision that continues the freeze on the payable pay rates for the Vice President and certain senior political appointees at 2013 levels during calendar year 2016. Executive Order 13715 shows the official pay rates (or ranges) for the Vice President, Executive Schedule positions, and certain other positions occupied by employees affected by the pay freeze. These official statutory rates of pay for the Vice President and Executive Schedule positions are used in determining the rate ranges and aggregate pay limitations for employees and pay systems unaffected by the pay freeze.

Executive Order 13715 provides that the rates of basic pay for administrative law judges (ALJs) under 5 U.S.C. 5372 are increased by 1 percent, rounded to the nearest $100 in 2016. The rate of basic pay for AL-1 is $160,300 (equivalent to the rate for level IV of the Executive Schedule). The rate of basic pay for AL-2 is $156,300. The rates of basic pay for AL-3/A through 3/F range from $107,000 to $148,100.

The rates of basic pay for members of Contract Appeals Boards are calculated as a percentage of the rate for level IV of the Executive Schedule. (See 5 U.S.C. 5372a.) Therefore, these rates of basic pay are increased by 1 percent in 2016.

On November 20, 2015, OPM issued a memorandum on behalf of the President's Pay Agent (the Secretary of Labor and the Directors of the Office of Management and Budget and OPM) that continues GS locality payments for ALJs and certain other non-GS employee categories in 2016. By law, EX officials, SES members, employees in SL/ST positions, and employees in certain other equivalent pay systems are not authorized to receive locality payments. (Note: An exception applies to certain grandfathered SES, SL, and ST employees stationed in a nonforeign area on January 2, 2010. See CPM 2009-27: https://www.chcoc.gov/content/nonforeign-area-retirement-equity-assurance-act.) The memo is available at https://www.opm.gov/policy-data-oversight/pay-leave/salaries-wages/continuation-of-locality-payments-for-non-general-schedule-employees.pdf.

On December 18, 2015, OPM issued a memorandum (CPM 2015-14) on the January 2016 pay adjustments. (See https://www.chcoc.gov/content/january-2016-pay-adjustments-0.) The memorandum transmitted Executive Order 13715 and provided the 2016 salary tables, locality pay areas and percentages, and information on general pay administration matters and other related information. The “2016 Salary Tables” posted on OPM's Web site at http://www.opm.gov/policy-data-oversight/pay-leave/salaries-wages/ are the official rates of pay for affected employees and are hereby incorporated as part of this notice.

U.S. Office of Personnel Management.
Beth F. Cobert,
Acting Director.

[FR Doc. 2016-03577 Filed 2-19-16; 8:45 am]

BILLING CODE P